NUCLEAR REGULATORY COMMISSION

[Docket Nos. 070-00026 and 040-03558]

Notice of Availability of Environmental Assessment and Finding of No Significant Impact for the Westinghouse Specialty Metals Plant in Blairsville, PA

AGENCY: Nuclear Regulatory Commission.

ACTION: Issuance of Environmental Assessment and Finding of No Significant Impact.

FOR FURTHER INFORMATION CONTACT: Mark Roberts, Senior Health Physicist, Decommissioning Branch, Division of Nuclear Materials Safety, Region I, U.S. Nuclear Regulatory Commission, 475 Allendale Road, King of Prussia, Pennsylvania; Telephone: (610) 337-5094; fax number (610) 337-5069; or e-mail: mcr@nrc.gov.

SUPPLEMENTARY INFORMATION:

I. Introduction

The U.S. Nuclear Regulatory Commission (NRC) has decided to take no further regulatory action at the Westinghouse Specialty Metals Plant site, located in Derry Township, near Blairsville, PA, off Township Road 966 (the Site). The Atomic Energy Commission (AEC) issued License Nos. SUC-509 and SNM-37 to Westinghouse Electric Corporation (Westinghouse) in the 1950s (pursuant to 10 CFR parts 40 and 70, respectively), authorizing the use of low enriched uranium, highly enriched uranium, and depleted uranium for conducting research and development, and for manufacturing activities related to the production of commercial and naval nuclear fuel. The two licenses were terminated in 1961 and 1964. The Site is currently being used for manufacturing operations that do not involve the use of licensed radioactive material.

Subsequent NRC administrative reviews in the early 1990s and radiological surveys by Westinghouse identified residual radioactive contamination in excess of NRC criteria for release for unrestricted use. The Westinghouse corporate office at 4350 Northern Pike in Monroeville, PA, took technical responsibility for remediating the Site, and transmitted documentation indicating that the Site now meets NRC criteria for release for unrestricted use. Following a favorable technical review, the NRC intends to inform Westinghouse via letter of its decision that the Site now meets current NRC criteria for release for unrestricted use and the NRC will take no further regulatory action regarding the Site. The NRC will remove the Site from the NRC listing of complex decommissioning sites.

Westinghouse requested this action in a letter dated February 15, 2006. The NRC has prepared an Environmental Assessment (EA) in support of this proposed action in accordance with the requirements of Title 10, Code of Federal Regulations (CFR), part 51 (10 CFR part 51). Based on the EA, the NRC has concluded that a Finding of No Significant Impact (FONSI) is appropriate with respect to the proposed action. The letter will be issued to Westinghouse following the publication of this FONSI and EA in the Federal Register.

II. Environmental Assessment

Identification of Proposed Action

The proposed action would approve Westinghouse's February 15, 2006, request that the NRC concur that Westinghouse provided adequate documentation to conclude that the Site meets the requirements in 10 CFR 20.1402 for release for unrestricted use and that the Site can therefore be removed from the NRC listing of complex decommissioning sites.

The Site is situated on 485 acres and is located in a rural area with scattered residential and manufacturing properties within its vicinity. One of the four major buildings and two exterior areas at the Site contained radioactive contamination that has now been remediated. Within the buildings, use of licensed materials was primarily confined to the southeast quarter of the 205,000 ft ² main building, although material was used in other isolated areas of the building. Radioactive waste material was processed in a waste building south of the main building and contaminated zircalloy metal was burned in the vicinity of that building. The waste building was subsequently used for activities that did not involve the use of radioactive material and the building was later razed in approximately 1990. Some of the waste radioactive material had also been dumped in a quarried area on the east side of the Site.

Westinghouse ceased licensed activities at the Site in the early 1960s and moved production to other licensed facilities. Decontamination and radiological surveys were performed that were sufficient to allow termination of the licenses in the early 1960s, but radiological survey data in the files is limited. As a result of reviews of terminated licenses conducted by the Oak Ridge National Laboratory (ORNL) and the NRC in the early 1990s, the Site was identified as not having sufficient documentation to verify that it had been properly decontaminated prior to license termination. Westinghouse conducted detailed radiological surveys that identified interior and exterior areas where further remediation was needed to meet applicable radiological criteria for release for unrestricted use.

From late 1994 through 2001, Westinghouse staff and contractors performed remediation activities and conducted final status surveys. Remediation and radiological survey activities were conducted in stages so that ongoing non-licenced operations would not be affected. Interior remediation activities consisted primarily of removing superficial concrete and paint on floor and wall surfaces, removing contaminated concrete around floor penetrations (e.g. equipment anchor bolts), excavating contaminated drain lines and sumps, and removing contaminated soil under contaminated drain lines that had leaked. Approximately 27,000 ft ² of the main building required remediation. Review of records and radiological survey results of the other buildings at the Site did not indicate the presence of radioactive contamination in these areas. Exterior remediation activities included removing ash and debris from a quarry area and removal of drain lines, contaminated soil, and building rubble from the vicinity of a former waste treatment and packaging building. All radioactive waste from remediation efforts was disposed at a licensed low-level waste disposal facility.

Because no NRC license pertains to the Site, remediation and radiological survey activities were conducted without a Decommissioning Plan. At the request of NRC Region I staff, Westinghouse did provide a Health and Safety Plan for the work activities with the commitment that activities with radioactive material be conducted in accordance with 10 CFR part 20, Standards for Protection Against Radiation. Region I staff conducted periodic inspections of the remediation and radiological survey activities. Because radioactive contamination at the Site was identified at approximately the same time that the Site Decommissioning Management Plan (SDMP) was initiated, Westinghouse, at the start of its remediation activities in the early 1990s, agreed to utilize relevant release criteria identified in the SDMP Action Plan. The relevant criteria used by Westinghouse were Regulatory Guide 1.86, “Termination of Operating Licenses for Nuclear Reactors,” June 1974, for residual surface contamination, and Option 1 of the Branch Technical Position, “Disposal or Onsite Storage of Thorium or Uranium Wastes from Past Operations” (46 FR 52601; October 23, 1981), for soil and demolition debris. Westinghouse conducted radiological surveys at the Site and provided information to the NRC to demonstrate that the above referenced criteria were met, and that its calculations demonstrated that the annual dose criteria in subpart E of 10 CFR part 20 for unrestricted release were met at the Site.

Need for the Proposed Action

Westinghouse no longer conducts licensed activities at the Site and its AEC licenses were terminated in 1961 and 1964. However, because residual radioactive material at the Site in excess of the current NRC criteria for release for unrestricted use was later identified, Westinghouse performed remediation and radiological survey activities that demonstrate that the Site now meets the criteria for release for unrestricted use. Westinghouse seeks concurrence from the NRC that the NRC has no further regulatory interest in the Site and the Site can be removed from the NRC listing of complex decommissioning sites.

Environmental Impacts of the Proposed Action

The historical review of licensed activities formerly conducted at the Site shows that such activities involved use of the following radioactive material with half-lives greater than 120 days: Highly-enriched uranium, low enriched uranium, and depleted uranium. Prior to performing the final status survey, Westinghouse conducted remediation activities, as necessary, in the areas of the Site affected by these radionuclides.

Westinghouse conducted final status surveys throughout the duration of the remediation project from 1994 through 2001. The results of the final radiological surveys were compiled onto a single compact disc that was transmitted with their February 15, 2006, letter. This final radiological survey covered the entire Site including all interior and exterior remediated areas, unaffected buildings, and exterior areas that were not remediated. Westinghouse demonstrated compliance with the applicable SDMP Action Plan criteria for the radioactive materials it formerly used at the Site, and also elected to demonstrate compliance with the radiological criteria for unrestricted release as specified in 10 CFR 20.1402 by performing dose calculations using the RESRAD and RESRAD BUILD computer programs. Appropriate site-specific parameters were used in the calculations. The Westinghouse dose calculations show the potential dose from residual radioactive material is less than one millirem per year and thus satisfies the NRC requirements in subpart E of 10 CFR part 20 for unrestricted release.

Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). The staff finds there were no significant environmental impacts from the use of radioactive material at the Site. The NRC staff reviewed the docket file records and the final status survey report to identify any non-radiological hazards that may have impacted the environment surrounding the Site. No such hazards or impacts to the environment were identified. The NRC has identified no other radiological or non-radiological activities in the area that could result in cumulative environmental impacts.

The NRC staff finds that the proposed release of the Site for unrestricted use is in compliance with 10 CFR 20.1402. Based on its review, the staff considered the impact of the residual radioactivity at the Site and concluded that the proposed action will not have a significant effect on the quality of the human environment.

Environmental Impacts of the Alternatives to the Proposed Action

Due to the largely administrative nature of the proposed action, its environmental impacts are small. Therefore, the only alternative the staff considered is the no-action alternative, under which the staff would leave things as they are by simply denying the request from Westinghouse. This no-action alternative is not practical because it perpetuates NRC attention to a site where remediation activities for residual contamination have been completed. The NRC's analysis of Westinghouse's final status survey data confirmed that the requirements of 10 CFR 20.1402 for unrestricted release have been met. Additionally, denying the request would result in no change in current environmental impacts. The environmental impacts of the proposed action and the no-action alternative are therefore similar, and the no-action alternative is accordingly not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this Environmental Assessment to the Pennsylvania Department of Environmental Protection, Bureau of Radiation Protection for review on August 14, 2006. On August 17, 2006, the Pennsylvania Department of Environmental Protection, Bureau of Radiation Protection responded by email. The State agreed with the conclusions of the EA, and otherwise had no comments.

The NRC staff has determined that the proposed action is of a procedural nature, and will not affect listed species or critical habitat. Therefore, no further consultation is required under section 7 of the Endangered Species Act. The NRC staff has also determined that the proposed action is not the type of activity that has the potential to cause effects on historic properties. Therefore, no further consultation is required under section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. February 15, 2006, Letter from Westinghouse to M. Roberts, NRC Region I, “Submittal of Report Documenting the Radiological Status of the Westinghouse Specialty Metals Plant Site and Demonstrating Compliance with the Provisions of 10 CFR 20.1402 to Release the Site for Unrestricted Use” and accompanying reports (document package ML003741979);

2. July 24, 2006, Region I Technical Assistance Request regarding the Blairsville site, Memorandum from George Pangburn, Region I to Dominic Orlando, NMSS. (ML062050308);

3. August 17, 2006, e-mail from Robert Maiers, Pennsylvania Department of Environmental Protection, Bureau of Radiation Protection to Mark Roberts, DNMS, USNRC Region I (ML062480365);

4. Terminated License file for License SNM-37;

5. Terminated License File for License SUC-509;

6. NUREG-1757, “Consolidated NMSS Decommissioning Guidance;”

7. Title 10 Code of Federal Regulations, part 20, subpart E, “Radiological Criteria for License Termination;”

8. Title 10, Code of Federal Regulations, part 51, “Environmental Protection Regulations for Domestic Licensing and Related Regulatory Functions;”

9. NUREG-1496, “Generic Environmental Impact Statement in Support of Rulemaking on Radiological Criteria for License Termination of NRC-Licensed Nuclear Facilities.”

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O1 F21, One White Flint North, 11555 Rockville Pike, Rockville, MD 20852. The PDR reproduction contractor will copy documents for a fee.

Dated at King of Prussia, Pennsylvania this 15th day of September, 2006.
For the Nuclear Regulatory Commission.
Marie T. Miller,
Chief, Decommissioning Branch, Division of Nuclear Materials Safety, Region I.

[FR Doc. 06-8015 Filed 9-21-06; 8:45 am]

BILLING CODE 7590-01-P